ENVIRONMENTAL PROTECTION AGENCY

[EPA-HQ-OPA-2007-0042; FRL-9802-2]

Proposed Information Collection Request; Comment Request; The National Oil and Hazardous Substances Pollution Contingency Plan

AGENCY: Environmental Protection Agency (EPA).

ACTION: Notice.

SUMMARY: The Environmental Protection Agency is planning to submit an information collection request (ICR), The National Oil and Hazardous Substances Pollution Contingency Plan (EPA ICR No. 1664.09, OMB Control No. 2050-0141) to the Office of Management and Budget (OMB) for review and approval in accordance with the Paperwork Reduction Act (44 U.S.C. 3501 et seq.). Before doing so, EPA is soliciting public comments on specific aspects of the proposed information collection as described below. This is a proposed extension of the ICR, which is currently approved through October 31, 2013. An Agency may not conduct or sponsor and a person is not required to respond to a collection of information unless it displays a currently valid OMB control number.

DATES: Comments must be submitted on or before June 14, 2013.

ADDRESSES: Submit your comments, referencing Docket ID No. EPA-HQ-OPA-2007-0042 online using www.regulations.gov (our preferred method), by email to Docke.rcra@epa.gov or by mail to: EPA Docket Center, Environmental Protection Agency, Mail Code 28221T, 1200 Pennsylvania Ave NW., Washington, DC 20460.

EPA's policy is that all comments received will be included in the public docket without change including any personal information provided, unless the comment includes profanity, threats, information claimed to be Confidential Business Information (CBI) or other information whose disclosure is restricted by statute.

FOR FURTHER INFORMATION CONTACT: William Nichols, Office of Emergency Management Regulation and Policy Development Division, (5104A), Environmental Protection Agency, 1200 Pennsylvania Ave NW., Washington, DC 20460; telephone number: 202-564-1970; fax number: 202-564-8222; email address: nichols.nick@epa.gov.

SUPPLEMENTARY INFORMATION: Supporting documents which explain in detail the information that the EPA will be collecting are available in the public docket for this ICR. The docket can be viewed online at www.regulations.gov or in person at the EPA Docket Center, EPA West, Room 3334, 1301 Constitution Ave NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This Information Collection Request (ICR) renewal supports activities to implement the National Oil and Hazardous Substances Pollution Contingency Plan (NCP), Subpart J (40 CFR 300.900, “Use of Dispersants and Other Chemicals”).

The use of bioremediation agents, dispersants, surface washing agents, surface collecting agents and miscellaneous agents in response to oil spills in U.S. waters or adjoining shorelines is governed by Subpart J of the NCP regulation (40 CFR 300.900). Subpart J requirements include criteria for listing oil spill mitigating agents on the NCP Product Schedule, hereafter referred to as the Schedule. EPA's regulation, which is codified at 40 CFR 300.00, requires that EPA prepare a schedule of “dispersants, other chemicals, and other spill mitigating devices and substances, if any, that may be used in carrying out the NCP.” The Schedule is required by section 311(d)(2)(G) of the Clean Water Act (CWA), as amended by the Oil Pollution Act of 1990. The Schedule is used by federal On-Scene Coordinators (OSCs), Regional Response Teams (RRTs), and Area Planners to identify spill mitigating agents in preparation for and response to oil spills.

Under Subpart J, respondents who want to add a product to the Schedule must submit technical product data to the U.S. Environmental Protection Agency (EPA or Agency) as stipulated in 40 CFR 300.915. Specifically, Subpart J requires the manufacturer to conduct specific toxicity and effectiveness tests and submit the corresponding technical product data along with other detailed information to the EPA Office of Emergency Management, Office of Solid Waste and Emergency Response. For example, a dispersant must exceed the 50-percent (±5 percent) efficacy threshold in order to be listed on the Schedule. EPA places oil spill mitigating agents on the Schedule if all the required data are submitted and the product satisfies all requirements and meets or exceeds testing thresholds. The Product Schedule is available to federal OSCs, RRTs, and Area Committees for determining the most appropriate products to use in various spill scenarios.

Products currently listed on the Schedule are divided into five basic categories: dispersants, surface washing agents, surface collecting agents, bioremediation agents, and miscellaneous oil spill control agents. As of March, 2013, 112 products are listed on the Schedule. It is estimated that 11 products per year will be submitted to EPA for listing on the Schedule. Over the three-year period covered by this ICR, an estimated 33 products may be listed. Additionally, EPA estimates that approximately 10 manufacturers will submit information to obtain sorbent certifications. The annual public reporting burden will be 315 hours. The total annual cost (including labor and non-labor) to manufacturers under Subpart J is estimated to be $88,743.

At 40 CFR 300.920(c), respondents are allowed to assert that certain information in the technical product data submissions is confidential business information. EPA will handle such claims pursuant to the provisions in 40 CFR Part 2, Subpart B. Such information must be submitted separately from non-confidential information, clearly identified, and clearly marked “Confidential Business Information.” If the applicant fails to make such a claim at the time of submittal, EPA may make the information available to the public without further notice.

Form Numbers: None.

Respondents/affected entities: Respondents include, but are not limited to, manufacturers of bioremediation agents, dispersants, surface collecting agents, surface washing agents, miscellaneous oil spill control agents, and other chemical agents and biological additives used as countermeasures against oil spills. Affected private industries can be expected to fall within the following industrial classifications:

• Manufacturers of industrial inorganic chemicals (SIC 281/NAICS 325188),

• Manufacturers of industrial organic chemicals (SIC 286/NAICS 325199), and

• Manufacturers of miscellaneous chemical products (SIC 289/NAICS 325988).

Respondent's obligation to respond: An oil spill mitigating agent does not have to be listed on the Product Schedule unless a manufacturer wants the product to be applied as part of an emergency response to an oil spill. If so, then certain mandatory product testing and information is required to be considered for listing on the Schedule. (The Schedule is required by section 311(d)(2)(G) of the Clean Water Act (CWA), as amended by the Oil Pollution Act of 1990).

Estimated number of respondents: Eleven per year. There are 96 manufacturers and 112 products (26 bioremediation agents, 18 dispersants, 14 miscellaneous agents, and 53 surface washing agents, 2 surface collecting agents) listed on the March, 2013 Schedule. EPA estimates that manufacturers will apply to list 11 products on the Schedule each year, including 2 bioremediation agents, 3 dispersants, 2 miscellaneous agents, 1 surface collecting agent, and 3 surface washing agents. Over a three-year period, EPA anticipates that manufacturers will apply to list a total of 6 bioremediation agents, 9 dispersants, 6 miscellaneous agents, 3 surface collecting agent, and 9 surface washing agents on the Schedule.

Frequency of response: Each manufacturer responds one time per product submittal.

Total estimated burden: 315 hours (per year). Burden is defined at 5 CFR 1320.03(b).

Total estimated cost: $ 72,450 (per year).

Changes in estimates: There is a decrease in burden hours and cost. All regulatory requirements are the same as in 2010. There is a decrease in total cost of $10,550 due to less manufacturers applying to list products (11 instead of 14 per year) on the Schedule even though laboratory pricing and labor rates have risen.

Dana S. Tulis,
Deputy Director, Office of Emergency Management.

[FR Doc. 2013-08702 Filed 4-12-13; 8:45 am]

BILLING CODE 6560-50-P